DEPARTMENT OF HEALTH AND HUMAN SERVICES

Health Resources and Services Administration

Recruitment of Sites for Assignment of Commissioned Officers

AGENCY: Health Resources and Services Administration (HRSA), HHS.

ACTION: General notice.

SUMMARY: The Health Resources and Services Administration (HRSA) announces that applications will be accepted from organized primary health care sites that provide services to underserved populations in the neediest Health Professional Shortage Areas (HPSAs) throughout the Nation that are interested in receiving an assignment of one of forty (40) PHS commissioned officers. The National Health Service Corps (NHSC) will pay the salaries, moving expenses and benefits for 40 commissioned officers who will be part of a mobile cadre of health care professionals. These commissioned officers will provide services to patients at their assigned practice sites and may be called upon to respond to regional and/or national health emergencies. The NHSC will assist the officers in acquiring, maintaining and enhancing emergency response skills. The initial assignments will be no longer than three years in duration. Thirty-six of these commissioned officers will be family practice physicians and four will be dentists.

Eligible Applicants

To be eligible to receive the assignment of one of the forty commissioned officers, public and nonprofit private entities must: (1) meet the standard requirements to be approved as an NHSC site (see sections 333 and 333A of the Public Health Service Act) and (2) submit a completed Proposal for Use of a Commissioned Officer 2002 form.

All entities that receive the assignment of NHSC personnel must enter into an agreement with the State agency that administers Medicaid, accept assignment of Medicare, see all patients regardless of their ability to pay and use and post a discounted fee plan. In addition, entities must understand that if they receive the assignment of one of these forty commissioned officers, that officer will be away from the practice site for up to 4 weeks per year for training and may be away from the site for an additional period of time to respond to a regional or national health emergency.

Evaluation and Selection Process

For those entities which meet the standard requirements to be approved as an NHSC site, the NHSC will evaluate and score their Proposals for Use of a Commissioned Officer, looking at the health care needs of the HPSA to be served, the entity's proposed utilization of the commissioned officer to meet those needs, the entity's plan for evaluating that officer's progress toward meeting those needs, and the budget resources available to meet those needs. The NHSC will determine which entities qualify for the assignment of one of the forty commissioned officers based on:

(1) The Proposal's score;

(2) The health care needs of the HPSA served as evidenced by the HPSA score (HPSAs are scored on a scale of 1 to 25 for primary care HPSAs and 1 to 26 for dental HPSAs using criteria such as ratio of available health providers to population, rate of poverty and access to primary health services taking into account the distance to such services. Higher HPSA scores correlate to greater need.); and

(3) The need to equitably distribute the commissioned officers throughout the Nation.

More than forty entities may be approved to qualify for the assignment of one of these commissioned officers. Therefore, it is possible that an entity deemed qualified may not receive a commissioned officer.

Application Requests, Dates and Address

All interested entities will be required to submit a Proposal for Use of a Commissioned Officer 2002 form. Entities that are not on the NHSC Opportunities List (see http://bhpr.hrsa.gov/nhsc/opportunities—list) will also be required to submit a Recruitment and Retention Assistance Application to enable the NHSC to determine if they meet the standard requirements to be approved as an NHSC site. (Entities that are on the NHSC Opportunities List have already submitted Recruitment and Retention Applications and have been approved as NHSC sites.)

Completed proposals/applications should be addressed to: National Health Service Corps, 4350 East-West Highway, 8th Floor, Bethesda, MD, 20814. These proposals/applications must be postmarked on or before the deadline date of June 3, 2002. Proposals/applications postmarked after June 3, 2002, or sent to any address other than the one specified above, will be returned to the applicant and not be considered. Applicants should request a legibly dated U.S. Postal Service postmark or obtain a legibly dated receipt from a commercial carrier or U.S. Postal Service. Private metered postmarks shall not be acceptable as proof of timely mailing.

Additional Information

Entities interested in receiving proposal/application materials may do so by calling the National Health Service Corps call center at 1-800-221-9393. They may also get information and download the Proposal for Use of Commissioned Officer 2002 form and the Recruitment and Retention Assistance Application by visiting the NHSC Web site at: http://bhpr.hrsa.gov/nhsc/.

Dated: April 19, 2002.
Elizabeth M. Duke,
Administrator.

[FR Doc. 02-10226 Filed 4-24-02; 8:45 am]

BILLING CODE 4165-15-P